SMALL BUSINESS ADMINISTRATION

[Declaration of Disaster #3498, Amdt. 2]

State of Tennessee

In accordance with a notice received from the Department of Homeland Security—Federal Emergency Management Agency, effective May 19, 2003, the above numbered declaration is hereby amended to include Hardin, Morgan and Sumner Counties in the State of Tennessee as disaster areas due to damages caused by severe storms, tornadoes and flooding occurring on May 4, 2003, and continuing.

In addition, applications for economic injury loans from small businesses located in the contiguous counties of Anderson, Fentress, Macon and Scott in the State of Tennessee; Allen County in the State of Kentucky; and Tishomingo County in the State of Mississippi may be filed until the specified date at the previously designated location. All other counties contiguous to the above named primary counties have been previously declared.

All other information remains the same, i.e., the deadline for filing applications for physical damage is July 7, 2003, and for economic injury the deadline is February 6, 2004.

(Catalog of Federal Domestic Assistance Program Nos. 59002 and 59008)
Dated: May 21, 2003.
Cheri C. Wolff,
Acting Associate Administrator for Disaster Assistance.

[FR Doc. 03-13279 Filed 5-28-03; 8:45 am]

BILLING CODE 8025-01-P